DEPARTMENT OF HEALTH AND HUMAN SERVICES

Centers for Disease Control and Prevention

[60Day-05BJ]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Sandi Gambescia, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Breast and Cervical Cancer Early Detection Program (NBCCEDP) Case Management Survey—New—National Center for Chronic Disease Prevention and Health Promotion (NCCDPHP), Centers for Disease Control and Prevention (CDC).

Background and brief description of the proposed project: The impact of case management policy on the National Breast and Cervical Cancer Early Detection Program (NBCCEDP) operations and clients is not well understood to date. Evaluation results thus far have produced a general, qualitative understanding of how case management has been implemented by grantees. Questions remain, however, regarding: (1) The number of grantees who have implemented different types of financial and service delivery models of case management; (2) costs associated with different approaches to case management; and (3) whether or not case management activities have a positive impact on clients. This evaluation project will focus on the first and second questions.

The purpose of the case management assessment will be to gather some quantitative and descriptive information about how the case management component has been implemented by all NBCCEDP grantees. Results of the evaluation should assist CDC in developing case management training, providing technical assistance, and assessing the costs of case management. A standardized written survey will be used to collect descriptive information from all NBCCEDP grantees on components of case management program activities including: organizational structure, financial and service delivery models, staffing, and needs for training or technical assistance. A total of 68 Breast and Cervical Cancer Program Directors will be asked to complete the survey, with assistance from program Case Management Coordinators as needed. The survey is expected to take an average of 1.5 hours to complete. The only cost to respondents is their time. This is a one-time data collection effort. The total annualized burden for respondents is 102 hours.

Annualized Burden Table
Respondents | Number of respondents | Number of responses per respondent | Average burden per response (in hours) | Total burden (in hours)
Program Directors | 68 | 1 | 1 | 68
Case Management Coordinators | 68 | 1 | 30/60 | 34
Total | 136 |  |  | 102

Dated: February 25, 2005.
Betsey Dunaway,
Acting Reports Clearance Officer, Office of the Chief Science Officer, Centers for Disease Control and Prevention.

[FR Doc. 05-4678 Filed 3-9-05; 8:45 am]

BILLING CODE 4163-18-P